DEPARTMENT OF HOMELAND SECURITY

National Communications System

[Docket No. NCS-2009-0001]

President's National Security Telecommunications Advisory Committee

AGENCY: National Communications System, DHS.

ACTION: Notice of an open advisory committee meeting.

SUMMARY: The President's National Security Telecommunications Advisory Committee (NSTAC) will be meeting by teleconference; the meeting will be open to the public.

DATES: March 11, 2009, from 2 p.m. until 3 p.m.

ADDRESSES: The meeting will take place by teleconference. For access to the conference bridge and meeting materials, contact Ms. Sue Daage at (703) 235-5526 or by e-mail at sue.daage@dhs.gov by 5 p.m. March 6, 2009. If you desire to submit comments regarding the March 11, 2009, meeting they must be submitted by April 1, 2009. This deadline provides additional time for comments in consideration of this notice being provided less than 15 days prior to the meeting. Comments must be identified by NCS-2009-0001 and may be submitted by one of the following methods:

Federal eRulemaking Portal: http://www.regulations.gov. Follow the instructions for submitting comments.

E-mail: NSTAC1@dhs.gov. Include docket number in the subject line of the message.

Mail: Office of the Manager, National Communications System (Customer Service Branch), Department of Homeland Security, 245 Murray Lane, SW., Washington, DC 20598-0615; Fax: 1-866-466-5370.

Instructions: All submissions received must include the words “Department of Homeland Security” and NCS-2009-0001, the docket number for this action. Comments received will be posted without alteration at http://www.regulations.gov, including any personal information provided.

Docket: For access to the docket to read background documents or comments received by the NSTAC, go to http://www.regulations.gov.

FOR FURTHER INFORMATION CONTACT: Ms. Sue Daage, Customer Service Branch at (703) 235-5526, e-mail: sue.daage@dhs.gov or write the Deputy Manager, National Communications System, Department of Homeland Security, 245 Murray Lane, SW., Washington, DC 20598-0615.

SUPPLEMENTARY INFORMATION: In compliance with 41 CFR 102-3.150(b), notice is hereby provided that less than 15 calendar days notice of this meeting is being provided due to exceptional circumstances, namely, that the NSTAC's input on the above issues has been requested by March 12, 2009, in order to inform in a timely manner the President's ongoing review of Federal cybersecurity policy.

NSTAC advises the President on issues and problems related to implementing national security and emergency preparedness telecommunications policy. Notice of this meeting is given under the Federal Advisory Committee Act (FACA), Public Law 92-463 (1972), as amended appearing in 5 U.S.C. App. 2.

At the upcoming open meeting, the NSTAC Principals will discuss the following four issues:

1. The government's role(s) in securing and protecting the critical infrastructures and private sector networks.

2. The adequacy of related Federal laws, regulations, and policies.

3. Organizational structures needed to support national security and emergency preparedness communications needs in a converged environment.

4. Actions related to the above issues which require immediate attention.

Persons with disabilities who require special assistance should indicate this when arranging access to the teleconference and are encouraged to identify anticipated special needs as early as possible.

Dated: March 2, 2009.
Nicholas E. Andre,
Acting Director, National Communications System.

[FR Doc. E9-4806 Filed 3-5-09; 8:45 am]

BILLING CODE 4410-10-P